DEPARTMENT OF TRANSPORTATION

Federal Railroad Administration

[Docket No. FRA 2013-0002-N-20]

Proposed Agency Information Collection Activities; Comment Request

AGENCY: Federal Railroad Administration, DOT.

ACTION: Notice.

SUMMARY: In accordance with the Paperwork Reduction Act of 1995 and its implementing regulations, the Federal Railroad Administration (FRA) hereby announces that it is seeking an extension of the following currently approved information collection activities. These information collection activities received a six-month emergency approval from OMB on August 29, 2013. FRA seeks this extension while it is determining the proper course of action to take to ensure that certain unattended trains and vehicles on mainline track or mainline siding outside of a yard or terminal, particularly ones transporting hazardous materials, are properly secured against unintended movement. Before submitting these information collection requirements for clearance by the Office of Management and Budget (OMB), FRA is soliciting public comment on specific aspects of the activities identified below.

DATES: Comments must be received no later than November 25, 2013.

ADDRESSES: Submit written comments on any or all of the following proposed activities by mail to either: Mr. Robert Brogan, Office of Safety, Planning and Evaluation Division, RRS-21, Federal Railroad Administration, 1200 New Jersey Ave. SE., Mail Stop 17, Washington, DC 20590, or Ms. Kimberly Toone, Office of Information Technology, RAD-20, Federal Railroad Administration, 1200 New Jersey Ave. SE., Mail Stop 35, Washington, DC 20590. Commenters requesting FRA to acknowledge receipt of their respective comments must include a self-addressed stamped postcard stating, “Comments on OMB control number 2130-0601.” Alternatively, comments may be transmitted via facsimile to (202) 493-6216 or (202) 493-6497, or via email to Mr. Brogan at Robert.Brogan@dot.gov, or to Ms. Toone at Kim.Toone@dot.gov. Please refer to the assigned OMB control number in any correspondence submitted. FRA will summarize comments received in response to this notice in a subsequent notice and include them in its information collection submission to OMB for approval.

FOR FURTHER INFORMATION CONTACT: Mr. Robert Brogan, Office of Planning and Evaluation Division, RRS-21, Federal Railroad Administration, 1200 New Jersey Ave. SE., Mail Stop 17, Washington, DC 20590 (telephone: (202) 493-6292) or Ms. Kimberly Toone, Office of Information Technology, RAD-20, Federal Railroad Administration, 1200 New Jersey Ave. SE., Mail Stop 35, Washington, DC 20590 (telephone: (202) 493-6132). (These telephone numbers are not toll-free.)

SUPPLEMENTARY INFORMATION: The Paperwork Reduction Act of 1995 (PRA), Public Law 104-13, § 2, 109 Stat. 163 (1995) (codified as revised at 44 U.S.C. 3501-3520), and its implementing regulations, 5 CFR Part 1320, require Federal agencies to provide 60-days notice to the public for comment on information collection activities before seeking approval for reinstatement or renewal by OMB. 44 U.S.C. 3506(c)(2)(A); 5 CFR 1320.8(d)(1), 1320.10(e)(1), 1320.12(a). Specifically, FRA invites interested respondents to comment on the following summary of proposed information collection activities regarding (i) Whether the information collection activities are necessary for FRA to properly execute its functions, including whether the activities will have practical utility; (ii) the accuracy of FRA's estimates of the burden of the information collection activities, including the validity of the methodology and assumptions used to determine the estimates; (iii) ways for FRA to enhance the quality, utility, and clarity of the information being collected; and (iv) ways for FRA to minimize the burden of information collection activities on the public by automated, electronic, mechanical, or other technological collection techniques or other forms of information technology (e.g., permitting electronic submission of responses). See 44 U.S.C. 3506(c)(2)(A)(I)-(iv); 5 CFR 1320.8(d)(1)(I)-(iv). FRA believes that soliciting public comment will promote its efforts to reduce the administrative and paperwork burdens associated with the collection of information mandated by Federal regulations. In summary, FRA reasons that comments received will advance three objectives: (i) Reduce reporting burdens; (ii) ensure that it organizes information collection requirements in a “user friendly” format to improve the use of such information; and (iii) accurately assess the resources expended to retrieve and produce information requested. See 44 U.S.C. 3501.

Below are brief summaries of three currently approved information collection activities that FRA will submit for clearance by OMB as required under the PRA:

Title: Emergency Order No. 28, Notice No. 1.

OMB Control Number: 2130-0601.

Abstract: FRA has determined that public safety compelled the issuance of Emergency Order No. 28, which requires railroads operating on the general system of transportation to implement additional processes and procedures to ensure that unattended trains and vehicles on mainline track or sidings are properly secured against unintended movement. Emergency Order No. 28 was published in the Federal Register on August 7, 2013, in response to the catastrophic accident that occurred in Lac-Mégantic, Quebec, Canada, on July 6, 2013. See 78 FR 48218. Emergency Order No. 28 is intended to address some of the human factors failures that may cause unattended equipment to be improperly secured in order to protect the general public and communities near the general system of rail transportation and railroad equipment that is used on it against derailment situations similar to that which occurred at Lac-Mégantic.

The collection of information is being used by FRA to ensure that railroads and their employees fulfill all the requirements that are set out in the Emergency Order. Among other purposes, FRA will use the information collected to verify that railroads develop, adopt, and comply with a plan that identifies specific locations and circumstances when a train or vehicle transporting the type and quantity of hazardous materials described in Appendix A of this Emergency Order shall be left unattended on a mainline track or mainline siding outside of a yard or terminal. FRA will also use the collection of information to confirm that railroads review and verify and adjust, as necessary, existing procedures and processes related to the number of hand brakes to be set on all unattended trains and equipment. Railroads must ensure the means of verifying that the number is appropriate. FRA will use the collection of information to enforce compliance, where necessary.

Form Number(s): N/A.

Affected Public: Businesses.

Frequency of Submission: One-time; on occasion.

Respondent Universe: 655 railroads; 100,00 Railroad Employees.

Reporting Burden:

Emergency order item No. | Respondent universe | Total annual responses | Average time per response | Total annual burden hours
(1) RR Plans identifying specific locations and circumstances of trains carrying hazardous materials: | 655 railroads | 491 plans | 40 hours | 19,640
—Revised Plans | 655 railroads | 50 revised plans | 10 hours | 500
—Notifications to FRA by RR of Plan Development Prior to Its Operation Pursuant to Plan | 655 railroads | 50 notifications | 30 minutes | 25
(2)(a)—RR Development of Process for Securing Unattended Trains or Vehicles: | 655 railroads | 491 processes | 60 minutes | 491
(b)—RR Employees communication to dispatchers of information regarding securement of train | 100,000 Employees | 26,000 exchanges/communications | 5 minutes | 2,167
(c)—Dispatcher's Record of Information Exchanged or Communicated | 655 railroads | 26,000 records | 2 minutes | 867
(d)—Train Dispatcher or Other Qualified Employee Verification and Confirmation of Train Securement Meeting RR's Requirements | 655 railroads | 26,000 verifications and confirmations | 2 minutes | 867
(3) RR Review and Revision of Existing Procedures and Processed Related to the number of Hand Brakes Set on All Unattended Trains: | 655 railroads | 491 revised procedures and processes | 6 hours | 2,946
(4) RR Revision of Operating Rules and Practices to Require Job Briefing of Train Securement: | 655 railroads | 491 revised operating rules and practices | 2 hours | 982
—Daily Job Briefings | 100,000 RR Employees | 23,400,000 briefings | 30 seconds | 195,000
(5) Development of RR Procedure to Ensure a Qualified Employee Inspects All Equipment Visited by Emergency Responder for Proper Securement Before Train or Vehicle is Left Unattended: | 655 railroads | 491 Procedures | 60 minutes | 491
—Inspections of Equipment | 655 railroads | 1,000 inspections | 4 hours | 4,000
(6) RR Employees Copy of FRA EO 28: | 100,000 RR Employees | 100,000 copies | 1 minute | 1,667

Total Estimated Responses: 23,581,555.

Total Estimated Annual Burden: 229,643 hours.

Status: Regular Review.

Pursuant to 44 U.S.C. 3507(a) and 5 CFR 1320.5(b), 1320.8(b)(3)(vi), FRA informs all interested parties that it may not conduct or sponsor, and a respondent is not required to respond to, a collection of information unless it displays a currently valid OMB control number.

Authority: 44 U.S.C. 3501-3520.

Rebecca Pennington,
Chief Financial Officer.

[FR Doc. 2013-23255 Filed 9-24-13; 8:45 am]

BILLING CODE 4910-06-P